DEPARTMENT OF TRANSPORTATION

Federal Aviation Administration

14 CFR Part 39

[Docket No. 2001-NM-49-AD; Amendment 39-12738; AD 2002-09-05]

RIN 2120-AA64

Airworthiness Directives; Bombardier Model CL-600-2B19 Series Airplanes

AGENCY: Federal Aviation Administration, DOT.

ACTION: Final rule.

SUMMARY: This amendment adopts a new airworthiness directive (AD), applicable to certain Bombardier Model CL-600-2B19 series airplanes, that requires a one-time inspection of the fuel-level sensing wires in the center fuel tank for damage and for clearance from the adjacent structure; and corrective action, if necessary. The actions specified by this AD are intended to detect and correct inadequate clearance between the fuel-level sensing wires in the center fuel tank and adjacent structures, which could lead to chafing of the wires, resulting in electrical arcing between the fuel-level sensing wires and the center fuel tank and a consequent fire or explosion in the center fuel tank. This action is intended to address the identified unsafe condition.

DATES: Effective June 6, 2002.

The incorporation by reference of certain publications listed in the regulations is approved by the Director of the Federal Register as of June 6, 2002.

ADDRESSES: The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Luciano Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION: A proposal to amend part 39 of the Federal Aviation Regulations (14 CFR part 39) to include an airworthiness directive (AD) that is applicable to certain Bombardier Model CL-600-2B19 series airplanes was published in the Federal Register on February 22, 2002 (67 FR 8214). That action proposed to require a one-time inspection of the fuel-level sensing wires in the center fuel tank for damage and for clearance from the adjacent structure; and corrective action, if necessary.

Comments

Interested persons have been afforded an opportunity to participate in the making of this amendment. Due consideration has been given to the single comment received. The commenter states that an inspection of the fuel-level sensing wires in the center fuel tank has revealed no damage or chafing on its airplanes.

Conclusion

After careful review of the available data, including the comment noted above, the FAA has determined that air safety and the public interest require the adoption of the rule as proposed.

Cost Impact

The FAA estimates that 160 Model CL-600-2B19 series airplanes of U.S. registry will be affected by this AD, that it will take approximately 10 work hours per airplane to accomplish the required actions, and that the average labor rate is $60 per work hour. Required parts will be provided at no charge by the manufacturer. Based on these figures, the cost impact of the AD on U.S. operators is estimated to be $96,000, or $600 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-09-05 Bombardier, Inc. (Formerly de Havilland, Inc.): Amendment 39-12738. Docket 2001-NM-49-AD.

Applicability: Model CL-600-2B19 series airplanes, serial numbers 7003 through 7295 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct inadequate clearance between the fuel-level sensing wires in the center fuel tank and adjacent structures, which could lead to chafing of the wires, resulting in electrical arcing between the fuel-level sensing wires and the center fuel tank and a consequent fire or explosion in the center fuel tank, accomplish the following:

Inspection

(a) At the next “A” check but no later than 500 flight hours after the effective date of this AD: Perform a general visual inspection of the fuel-level sensing wires in the center fuel tank for damage and for clearance from adjacent structures, in accordance with Bombardier Alert Service Bulletin 601R-28-042, Revision ‘A,’ dated January 12, 2001. If the inspection reveals that the clearance between the fuel-level sensing wires and adjacent structures is less than the minimum clearance specified in the service bulletin, prior to further flight, adjust the clearance in accordance with the service bulletin.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: Inspection, adjustment of the clearance between the fuel-level sensing wires and adjacent structures, and replacement of damaged fuel-level sensing wires accomplished prior to the effective date of this AD, in accordance with Bombardier Alert Service Bulletin 601R-28-042, dated August 14, 2000, are considered acceptable for compliance with the applicable action specified in this AD.

Replacement

(b) If the inspection required by paragraph (a) of this AD reveals damage to the fuel-level sensing wires: Prior to further flight, replace the damaged fuel-level sensing wires having part number (P/N) 601R57137-1/01 with new, improved fuel-level sensing wires having P/N 601R57137-1/S01, in accordance with Bombardier Alert Service Bulletin 601R-28-042, Revision ‘A,’ dated January 12, 2001.

Installation of Cushioned Clamps

(c) Prior to further flight after accomplishing the actions required by paragraphs (a) and (b) of this AD, if applicable: Install cushioned clamps between pipe P/N 601R62261-55 and the fuel-level sensing wires, in accordance with Bombardier Alert Service Bulletin 601R-28-042, Revision ‘A,’ dated January 12, 2001.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Bombardier Alert Service Bulletin 601R-28-042, Revision ‘A,’ dated January 12, 2001. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 5: The subject of this AD is addressed in Canadian airworthiness directive CF-2000-31, dated October 4, 2000.

Effective Date

(g) This amendment becomes effective on June 6, 2002.

Issued in Renton, Washington, on April 24, 2002.
Lirio Liu-Nelson,
Acting Manager, Transport Airplane Directorate, Aircraft Certification Service.

[FR Doc. 02-10651 Filed 5-1-02; 8:45 am]

BILLING CODE 4910-13-P